DEPARTMENT OF HOMELAND SECURITY

[Docket No. DHS-2010-0006]

National Protection and Programs Directorate; Technical Assistance Request and Evaluation

AGENCY: National Protection and Programs Directorate, DHS.

ACTION: 60-Day notice and request for comments; new information collection request: 1670-NEW.

SUMMARY: The Department of Homeland Security, National Protection and Programs Directorate/Cybersecurity and Communications/Office of Emergency Communications, has submitted the following Information Collection Request (ICR) to the Office of Management and Budget (OMB) for review and clearance in accordance with the Paperwork Reduction Act of 1995 (P.L. 104-13, 44 U.S.C. Chapter 35).

DATES: Comments are encouraged and will be accepted until May 3, 2010. This process is conducted in accordance with 5 CFR 1320.1

ADDRESS: Written comments and questions about this Information Collection Request should be forwarded to NPPD/CS&C/OEC, Attn.: Jonathan Clinton, Jonathan.Clinton@dhs.gov.

Written comments should reach the contact person listed no later than May 3, 2010. Comments must be identified by DHS-2010-0006 and may be submitted by one of the following methods:

• Federal eRulemaking Portal: http://www.regulations.gov.

• E-mail: Jonathan.Clinton@dhs.gov. Include the docket number in the subject line of the message.

Instructions: All submissions received must include the words “Department of Homeland Security” and the docket number for this action. Comments received will be posted without alteration at http://www.regulations.gov, including any personal information provided.

SUPPLEMENTARY INFORMATION: The Office of Emergency Communications (OEC), formed under Title XVIII of the Homeland Security Act of 2002, 6 U.S.C. 101 et seq., as amended, is authorized to provide technical assistance at no charge to State, regional, local, and tribal government officials. OEC will use the Technical Assistance Request Form to identify the number and type of technical assistance requests from each State and territory. OEC will use the Technical Assistance Evaluation Form to support quality improvement of its technical assistance services. Registration forms will be submitted electronically. Evaluation forms may be submitted electronically or in paper form.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Program Directorate.

Title: Technical Assistance Request and Evaluation.

Form: Not Applicable.

OMB Number: 1670-NEW.

Frequency: Annual.

Affected Public: State, local, or tribal government.

Number of Respondents: 350.

Estimated Time Per Respondent: 15 minutes.

Total Burden Hours: 175 annual burden hours.

Total Burden Cost (capital/startup): $0.

Total Burden Cost (operating/maintaining): $4,273.50.

Signed: February 12, 2010.
Thomas Chase Garwood, III,
Chief Information Officer, National Protection and Programs Directorate, Department of Homeland Security.

[FR Doc. 2010-4345 Filed 3-2-10; 8:45 am]

BILLING CODE 9110-9P-P